DEPARTMENT OF HOMELAND SECURITY

U.S. Customs and Border Protection

[Docket No. USCBP-2017-0044]

Commercial Customs Operations Advisory Committee (COAC)

AGENCY: U.S. Customs and Border Protection (CBP), Department of Homeland Security (DHS).

ACTION: Committee management; Notice of Federal Advisory Committee Meeting.

SUMMARY: The Commercial Customs Operations Advisory Committee (COAC) will hold its quarterly meeting on Tuesday, November 14, 2017 in Washington, DC The meeting will be open to the public.

DATES: The COAC will meet on Tuesday, November 14, 2017, from 1:00 p.m. to 5:00 p.m. EST. Please note that the meeting may close early if the committee has completed its business.

ADDRESSES: The meeting will be held at U.S. Customs & Border Protection, 1717 H Street NW., Room 700, Washington, DC 20006. For information on facilities or services for individuals with disabilities or to request special assistance at the meeting, contact Ms. Florence Constant-Gibson, Office of Trade Relations, U.S. Customs & Border Protection, at (202) 344-1440 as soon as possible.

Pre-Registration: Meeting participants may attend either in person or via webinar after pre-registering using one of the methods indicated below:

For members of the public who plan to attend the meeting in person, please register by 5:00 p.m. EST by November 13, 2017, either online at https://apps.cbp.gov/te_reg/index.asp?w=119; by email to tradeevents@dhs.gov; or by fax to (202) 325-4290. You must register prior to the meeting in order to attend the meeting in person.

For members of the public who plan to participate via webinar, please register online at https://apps.cbp.gov/te_reg/index.asp?w=118 by 5:00 p.m. EST, November 13, 2017.

Please feel free to share this information with other interested members of your organization or association.

Members of the public who are pre-registered to attend and later need to cancel, please do so by November 13, 2017, utilizing the following links: https://apps.cbp.gov/te_reg/cancel.asp?w=119 to cancel an in person registration or https://apps.cbp.gov/te_reg/cancel.asp?w=118 to cancel a webinar registration.

To facilitate public participation, we are inviting public comment on the issues the committee will consider prior to the formulation of recommendations as listed in the Agenda section below.

Comments must be submitted in writing no later than November 8, 2017, and must be identified by Docket No. USCBP-2017-0044, and may be submitted by one (1) of the following methods:

• Federal eRulemaking Portal: http://www.regulations.gov. Follow the instructions for submitting comments.

• Email: tradeevents@dhs.gov. Include the docket number in the subject line of the message.

• Fax: (202) 325-4290, Attention Florence Constant-Gibson.

• Mail: Ms. Florence Constant-Gibson, Office of Trade Relations, U.S. Customs and Border Protection, 1300 Pennsylvania Avenue NW., Room 3.5A, Washington, DC 20229.

Instructions: All submissions received must include the words “Department of Homeland Security” and the docket number (USCBP-2017-0044) for this action. Comments received will be posted without alteration at http://www.regulations.gov. Please do not submit personal information to this docket.

Docket: For access to the docket or to read background documents or comments, go to http://www.regulations.gov and search for Docket Number USCBP-2017-0044. To submit a comment, click the “Comment Now!” button located on the top-right hand side of the docket page.

There will be multiple public comment periods held during the meeting on November 14, 2017. Speakers are requested to limit their comments to two (2) minutes or less to facilitate greater participation. Contact the individual listed below to register as a speaker. Please note that the public comment period for speakers may end before the time indicated on the schedule that is posted on the CBP Web page, http://www.cbp.gov/trade/stakeholder-engagement/coac.

FOR FURTHER INFORMATION CONTACT: Ms. Florence Constant-Gibson, Office of Trade Relations, U.S. Customs and Border Protection, 1300 Pennsylvania Avenue NW., Room 3.5A, Washington, DC 20229; telephone (202) 344-1440; facsimile (202) 325-4290; or Mr. Bradley Hayes, Executive Director and Designated Federal Officer, can be reached at (202) 344-1440.

SUPPLEMENTARY INFORMATION: Notice of this meeting is given under the Federal Advisory Committee Act, 5 U.S.C. Appendix. The Commercial Customs Operations Advisory Committee (COAC) provides advice to the Secretary of Homeland Security, the Secretary of the Treasury, and the Commissioner of U.S. Customs and Border Protection (CBP) on matters pertaining to the commercial operations of CBP and related functions within the Department of Homeland Security and the Department of the Treasury.

Agenda

The COAC will hear from the following subcommittees on the topics listed below and then will review, deliberate, provide observations, and formulate recommendations on how to proceed:

1. The Trade Enforcement & Revenue Collection (TERC) Subcommittee will discuss new TERC recommendations and provide any necessary updates from the Anti-Dumping and Countervailing Duty, Bond, Forced Labor, and Intellectual Property Rights Working Groups.

2. The Global Supply Chain Subcommittee will present the status of a pilot that will test the utilization of existing Automated Commercial Environment (ACE) automation in the pipeline mode of transportation. The committee will also discuss the progress of the Global Supply Chain Subcommittee's new Emerging Technologies Working Group.

3. The One U.S. Government Subcommittee will continue discussions on the progress of the Fish & Wildlife Service Working Group and will present the final white paper on the Harmonized Tariff Schedule (HTS) project. The subcommittee will also discuss the progress of the newly created Technical and Operational Outages Working Group.

4. The Exports Subcommittee will discuss the Post Departure Filing (PDF) Working Group's progress on the implementation plan of the PDF Proposal and will include steps to initiate a proof of concept. The subcommittee will also discuss the progress of the Manifest Working Group and progress on issues with the ongoing manifest pilots. The working group may present recommendations in the area of manifest timelines during the November meeting.

5. The Trusted Trader Subcommittee will continue the discussion for an enhanced Trusted Trader program that includes engagement with CBP to include relevant partner government agencies with a potential for international interoperability. A review of the pilot program status and benefits will also be undertaken in parallel to determine the optimum benefits that would be assigned to Trusted Trader participants.

6. The Trade Modernization Subcommittee will discuss its plans for the topics that will be addressed during the next quarter.

Meeting materials will be available by November 10, 2017, at: http://www.cbp.gov/trade/stakeholder-engagement/coac/coac-public-meetings.

Dated: October 23, 2017.
Bradley F. Hayes,
Executive Director, Office of Trade Relations.

[FR Doc. 2017-23282 Filed 10-25-17; 8:45 am]

BILLING CODE 9111-14-P